ENVIRONMENTAL PROTECTION AGENCY

[EPA-HQ-OAR-2013-0451; FRL-9913-70-OAR]

Contractor Access to Vehicle and Engine Information Claimed as Confidential Business Information (CBI) Submitted Under Title II of the Clean Air Act

AGENCY: Environmental Protection Agency (EPA).

ACTION: Notice.

SUMMARY: The Environmental Protection Agency (EPA's) Office of Transportation and Air Quality (OTAQ) has authorized various contractors to access information which has been submitted to EPA under Title II of the Clean Air Act and that is claimed to be, or has been determined to be, confidential business information (CBI). EPA is providing notice of past disclosure and of ongoing and contemplated future disclosure.

DATES: Access by EPA contractors to material discussed in this Notice that has been either claimed or determined to be confidential business information (CBI) is ongoing and is expected to continue in the future. EPA will accept comments on this Notice through July 21, 2014.

FOR FURTHER INFORMATION CONTACT: Julian M. Davis, Attorney-Advisor, Environmental Protection Agency, 2000 Traverwood, Ann Arbor, Michigan (48105); Telephone number: 734-214-4029; Fax number: 734-214-4053; Email address: davis.julian@epa.gov.

SUPPLEMENTARY INFORMATION:

I. Does this notice apply to me?

This action is directed to the general public. However, this action may be of particular interest to parties who submit or have previously submitted information to EPA regarding the following programs:

Program | Regulation citation
Certification and defect reporting/recall of light-duty vehicles, motorcycles and heavy-duty on-highway vehicles and engines | 40 CFR part 86 and 40 CFR part 85, subpart T.
Certification and defect reporting/recall of non-road compression-ignition engines | 40 CFR part 89, subparts B and I, 40 CFR part 1039, subpart C, and 40 CFR part 1068, subpart F.
Certification and defect reporting/recall of spark-ignition engines less than or equal to 19 kilowatts | 40 CFR part 90, subparts C and I, 40 CFR part 1054, subpart C, and 40 CFR part 1068, subpart F.
Certification and defect reporting/recall of marine spark-ignition engines | 40 CFR part 91, subparts B and J, 40 CFR part 1045, subpart C, and 40 CFR part 1068, subpart F.
Certification and defect reporting/recall of locomotives | 40 CFR part 92, subparts C and E, 40 CFR part 1033, subpart C, and 40 CFR part 1068, subpart F.
Certification and defect reporting/recall of marine compression-ignition engines | 40 CFR part 94, subparts C and E, 40 CFR part 1042, subpart C, and 40 CFR part 1068, subpart F.
Certification of large nonroad spark-ignition engines | 40 CFR part 1048, subpart C, and 40 CFR part 1068, subpart F.
Certification of recreational engines and vehicles | 40 CFR part 1051, subpart C, and 40 CFR part 1068, subpart F.
Certification of non-road and stationary equipment for evaporative emissions compliance | 40 CFR part 1060, subpart C.
Fuel economy information | 40 CFR part 600.

Reports submitted to EPA under 40 CFR parts 86 and 600 related to engine and vehicle compliance, such as light-duty certification and fuel economy information, are commonly referred to by the name of the reporting system itself—i.e., Verify, the EPA's vehicle and engine compliance information system. If you have any questions regarding the applicability of this action to a particular party, please contact the person listed in FOR FURTHER INFORMATION CONTACT.

II. How can I get copies of this document and other related information?

A. Electronically

EPA has established a public docket for this Notice under Docket EPA-HQ-OAR-2013-0451. All documents in the docket are identified in the docket index available at http://www.regulations.gov. Although listed in the index, some information is not publicly available, such as confidential business information (CBI) or other information for which disclosure is restricted by statute. Certain materials, such as copyrighted material, will only be available in hard copy at the EPA Docket Center.

B. EPA Docket Center

Materials listed under Docket EPA-HQ-OAR-2013-0451 will be available for public viewing at the EPA Docket Center (EPA/DC), EPA West, Room 3334, 1301 Constitution Avenue NW., Washington, DC. The EPA Docket Center Public Reading Room is open from 8:30 a.m. to 4:30 p.m., Monday through Friday, excluding Federal holidays. The telephone number for the Reading Room is (202) 566-1744, and the telephone number for the Air Docket is (202) 566-1742.

III. Description of Programs and Potential Disclosure of Information Claimed as Confidential Business Information (CBI) to Contractors

The EPA's Office of Transportation and Air Quality (OTAQ) has responsibility for protecting public health and the environment by regulating air pollution from motor vehicles, engines, and the fuels used to operate them, and by encouraging travel choices that minimize emissions. In order to implement various Clean Air Act programs, and to permit regulated entities flexibility in meeting regulatory requirements, we collect compliance data and other information from them. Typically, the information submitted is claimed to be CBI. Information submitted under such a claim is handled in accordance with the EPA's regulations at 40 CFR part 2, subpart B and in accordance with EPA procedures, including comprehensive system security plans (SSPs), that are consistent with those regulations. When the EPA has determined that disclosure of information claimed as CBI to contractors is necessary, the corresponding contract must address the appropriate use and handling of the information by the contractor and the contractor must require its personnel who require access to information claimed as CBI to sign written nondisclosure agreements before they are granted access to the information.

Controls regarding the handling of information claimed as CBI, including sharing of information with contractors, are also addressed in individual SSPs. The required SSPs adhere to EPA regulations and policies, as well as with the National Institute of Standards and Technology (NIST) Standard 800-53, “Recommended Security Controls for Federal Information Systems and Organizations.” (NIST Standard 800-53 addresses technical, physical, environmental and other controls for information systems, including Local Area Networks (LANs) where information claimed as CBI may be stored.) Security plans address background investigations, required training, and rules of behavior for employees and contractors who require access to information claimed as CBI.

In accordance with 40 CFR 2.301(h), we have determined that the contractors, subcontractors, and grantees (collectively referred to as “contractors”) listed below require access to CBI submitted to us under Title II of the Clean Air Act and in connection with various OTAQ programs related to vehicles and engines and are providing notice and an opportunity to comment. OTAQ collects this data and related information in order to monitor compliance with Clean Air Act programs and, in many cases, to permit regulated parties flexibility in meeting regulatory requirements. For example, data that may contain CBI is collected in order to determine if equipment manufacturers may be eligible for regulatory relief under EPA's Transition Program for Equipment Manufacturers (40 CFR Parts 89, 1039 and 1054). The nature of the work and its necessity, and the type of access granted, is described below for each contractor. Normally, EPA is required to give affected businesses notice and an opportunity to comment at least five (5) working days prior to disclosure of information claimed as CBI to a Federal contractor. This Federal Register Notice provides notice to all affected businesses that, as described below, certain information may be provided to EPA contractors. We are publishing this notice in order to comply with the notification requirements of 40 CFR part 2, subpart B. We are issuing this notice to inform all submitters of information related to various vehicle and engine programs that we have provided, and may in the future provide, access to material claimed as CBI to the contractors identified below on a need-to-know basis.

Under Contract Number EP-C-13-033, Jacobs Technology, Inc., 600 William Northern Boulevard, Tullahoma, Tenessee 37388, provides support services for vehicle and engine emission certification programs to the National Vehicle and Fuel Emissions Laboratory in Ann Arbor, Michigan. Access by this contractor to vehicle and engine data and information claimed as CBI under this contract commenced on September 1, 2013 and will continue for the remainder of the contract and any further extensions without further notice.

Under contract number GSF4381G, Computer Sciences Corporation (CSC), 8400 Corporate Drive, New Carrollton, Maryland 20785, provides Information Technology (IT) support services related to the EPA's vehicle and engine compliance information system, commonly known as the Verify system. Access by this contractor to vehicle and engine data and information under this contract, including information claimed as CBI, has been ongoing since September 11, 2009 and is expected to continue through September 10, 2015. If the contract is extended, this access will continue for the remainder of the contract and any further extensions without further notice.

Under contract number GS00Q09BGD0022, CGI Federal, 12601 Fair Lakes Circle, Fairfax, Virginia 22033, provides technical and IT support for the Verify system. Access by this contractor to vehicle and engine data and information claimed as CBI commenced on January 1, 2012 and will continue through December 31, 2014. If the contract is extended this access will continue for the remainder of the contract and any further extensions without further notice.

Under contract number EP-C-11-007, SRA International, 4300 Fair Lakes Court, Fairfax, Virginia 22033, has provided and will continue to provide technical and analytical support for the OTAQ. Access by this contractor to vehicle and engine data and information under this contract claimed as CBI commenced on February 1, 2011 and will continue until December 31, 2014.

The Office of Transportation and Air Quality utilizes the services of enrollees under the Senior Environmental Employment (SEE) program. SEE funding for enrollees is provided through three grant programs. SSAI grant #835572 and SSAI grant #Q835372 located at Suite 1200, Coles Field Road, Silver Spring, Maryland 20910; and the National Association for Hispanic Elderly (NAHE) grant number 835418, located at 234 E. Colorado Blvd., Suite 300, Pasadena, California 91101. SSAI grant #835572 commenced on November 1, 2013 and will continue until October 31, 2016. SSAI grant #Q835372 commenced on November 1, 2012 and will continue until October 31, 2015. NAHE grant #835418 commenced on December 1, 2013 and will continue until November 30, 2016. SEE grantees have access to data and other information relating to all of the OTAQ's engine and vehicle programs, including information claimed as CBI. If the grant is extended, this access will continue for the remainder of the grant and any future extensions without further notice.

Parties who wish further information about this Federal Register notice or about OTAQ's disclosure of information designated or claimed as CBI to contactors may contact the person listed under FOR FURTHER INFORMATION CONTACT.

Dated: July 7, 2014.
Byron J. Bunker,
Director, Compliance Division, Office of Transportation and Air Quality.

[FR Doc. 2014-16574 Filed 7-14-14; 8:45 am]

BILLING CODE 6560-50-P